GENERAL SERVICES ADMINISTRATION

[OMB Control No. 3090-0300; Docket No. 2023-0001; Sequence No. 9]

Submission for OMB Review; General Services Administration Acquisition Regulation; Implementation of Information Technology Security Requirements

AGENCY: Office of Acquisition Policy, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding implementation of GSA information technology security requirements.

DATES: Submit comments on or before February 21, 2024.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Mr. Stephen Carroll, Procurement Analyst, at GSARpolicy@gsa.gov or 817-978-0609.

SUPPLEMENTARY INFORMATION:

A. Purpose

General Services Acquisition Regulations (GSAR) requires that contractors accessing information systems that support the operations and assets of GSA, another agency, contractor, or other source, to comply with GSA's IT security policies including GSA IT's security policies outlined in CIO 09-48, IT Security Procedural Guide: Security and Privacy IT Acquisition Requirements and CIO 12-2018, IT Policy Requirements Guide.

B. Annual Reporting Burden

Respondents: 117.

Responses per Respondent: 2.

Total Annual Responses: 234.

Hours per Response: 5.

Total Burden Hours: 1,170.

C. Public Comments

A 60-day notice was published in the Federal Register at 88 FR 73018 on October 24, 2023. No comments were received.

Obtaining Copies of Proposals: Requesters may obtain a copy of the information collection documents from the Regulatory Secretariat Division (MVCB), at GSARegSec@gsa.gov. Please cite OMB Control No. 3090-0300, Implementation of Information Technology Security Requirements, in all correspondence.

Jeffrey A. Koses,
Senior Procurement Executive, Office of Acquisition Policy, Office of Government-wide Policy.

[FR Doc. 2024-01105 Filed 1-19-24; 8:45 am]

BILLING CODE P